DEPARTMENT OF COMMERCE

International Trade Administration

Export Trading Companies Contact Facilitation Service

ACTION: Proposed collection; comment request.

SUMMARY: The Department of Commerce, as part of its continuing effort to reduce paperwork and respondent burden, invites the general public and other Federal agencies to take this opportunity to comment on the continuing information collections, as required by the Paperwork Reduction Act of 1995, Public Law 104-13 (44 U.S.C. 3506(C)(2)(A)).

DATES: Written comments must be submitted on or before June 20, 2005.

ADDRESSES: Direct all written comments to Diana Hynek, Departmental Paperwork Clearance Officer, Department of Commerce, Room 6612, 14th & Constitution Avenue, NW., Washington, DC 20230 or via the Internet at dHynek@doc.gov.

FOR FURTHER INFORMATION CONTACT: Requests for additional information or copies of the information collection instrument and instructions should be directed to: Chris Rasmussen, Export Trading Company Affairs; Industry Analysis; Room 1104; 14th St. & Constitution Ave, NW., Washington, DC 20230; phone: (202) 482-5131; and fax: (202) 482-1790.

SUPPLEMENTARY INFORMATION:

I. Abstract

The Contact Facilitation Service (CFS) is a U.S. Department of Commerce database, designed to put U.S. producers together with export service providers. Many U.S. firms have never exported because of a fear of the risks involved in exporting and a lack of knowledge of the international marketplace. New-to-export firms need the assistance of export service firms offering export trade services. One of the purposes of the Export Trading Company (ETC) Act of 1982 is to increase United States exports of goods and services by encouraging more efficient provision of export trade services to U.S. producers and suppliers. Section 104 of the Act directs Commerce to provide a service to facilitate contact between producers of exportable goods and services and firms offering export trade services.

The International Trade Administration (ITA) maintains the CFS database of U.S. manufacturers, export trading and management companies, wholesalers/distributors, and international service firms. The CFS is designed to help promote exports and enable U.S. producers to locate export service providers. Export Service firms registered in the CFS database are listed in annual print editions of the U.S. Trade Assistance Directory, distributed throughout the United States. U.S. producers of goods and services registered in the CFS database are listed in the annual print editions of the U.S. Department of Commerce Exporters' Yellow Pages™, distributed worldwide. These directories also are accessible online at http://www.myexports.com. The print and electronic produced and made available through ITA's “MyExports” “ program. Without the information collected by the form, the CFS database and the resulting directories would be unreliable and ineffective, because users of this kind of data need current information about the listed companies.

II. Method of Collection

Form ITA-4094P is sent by request to U.S. firms.

III. Data

OMB Number: 0625-0120.

Form Number: ITA-4094P.

Type of Review: Regular Submission.

Affected Public: Business or other for-profit; not-for-profit institutions and State, local or tribal government.

Estimated Number of Respondents: 12,000.

Estimated Time per Response: 15 minutes.

Estimated Total Annual Burden Hours: 3,000.

Estimated Total Annual Costs: $95,500 ($10,000 government and $85,500 respondents.)

IV. Request for Comments

Comments are invited on (a) Whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: April 15, 2005.
Madeleine Clayton,
Management Analyst, Office of the Chief Information Officer.

[FR Doc. 05-7918 Filed 4-19-05; 8:45 am]

BILLING CODE 3510-DR-P